FEDERAL MARITIME COMMISSION

Notice of Agreements Filed

The Commission hereby gives notice of the filing of the following agreements under the Shipping Act of 1984. Interested parties may submit comments on the agreements to the Secretary, Federal Maritime Commission, Washington, DC 20573, within ten days of the date this notice appears in the Federal Register. Copies of the agreements are available through the Commission's Web site (http://www.fmc.gov) or by contacting the Office of Agreements at (202) 523-5793 or tradeanalysis@fmc.gov.

Agreement No.: 011848-003.

Title: WWL/“K” Line Transatlantic Space Charter Agreement.

Parties: Kawasaki Kisen Kaisha, Ltd. (“K” Line) and Wallenius Wilhelmsen Logistics AS (“WWL”).

Filing Party: John P. Meade, Esq.; Vice President-Law; “K” Line America, Inc.; 6009 Bethlehem Road; Preston, MD 21655.

Synopsis: The amendment revises the agreement to now provide for the reciprocal chartering of space between the parties for vehicles in the trade between the U.S. Atlantic Coast and Europe.

Agreement No.: 201162-005.

Title: NYSA-ILA Assessment Agreement.

Parties: International Longshoremen's Association and New York Shipping Association.

Filing Parties: Donato Caruso, Esq.; The Lambos Firm; 29 Broadway, 9th Floor; New York, NY 10006 and Andre Mazzola, Esq.; Marrinan & Mazzola Mardon, P.C.; 26 Broadway, 17th Floor; New York, NY 10004.

Synopsis: The amendment reduces the assessment per container of bananas during the period from May 1, 2010 through September 30, 2010.

By Order of the Federal Maritime Commission.
Dated: May 14, 2010.
Karen V. Gregory,
Secretary.

[FR Doc. 2010-12013 Filed 5-18-10; 8:45 am]

BILLING CODE 6730-01-P